DEPARTMENT OF THE TREASURY

Open Meeting of the President's Advisory Council on Financial Capability

AGENCY: Department of the Treasury.

ACTION: Notice of meeting.

SUMMARY: The President's Advisory Council on Financial Capability (“Council”) will convene its third meeting on July 12, 2011 via audio webcast beginning at 2:30 p.m. Eastern Time. The webcast will be open to the public. Details about how to access the audio webcast will be posted on the Treasury's Office of Financial Education and Financial Access' Web site at http://www.treasury.gov (click on Resource Center, then on Office of Financial Education and Financial Access and finally on President's Advisory Council on Financial Capability). The Council will receive a report from the Council's subcommittees (Financial Access, Research and Evaluation, Partnerships, and Youth) on their progress and discuss any possible recommendations.

DATES: The meeting will be held on July 12, 2011, at 2:30 p.m. Eastern Time.

Submission of Written Statements: The public is invited to submit written statements to the Council. Written statements should be sent by any one of the following methods:

Electronic Statements

E-mail ofe@treasury.gov; or

Paper Statements

Send paper statements to the Department of the Treasury, Office of Financial Education and Financial Access, Main Treasury Building, 1500 Pennsylvania Avenue, NW., Washington, DC 20220.

In general, the Department will make all statements available in their original format, including any business or personal information provided such as names, addresses, e-mail addresses, or telephone numbers, for public inspection and photocopying in the Department's library, Room 1428, Main Department Building, 1500 Pennsylvania Avenue, NW., Washington, DC 20220, on official business days between the hours of 10 a.m. and 5 p.m. You can make an appointment to inspect statements by calling (202) 622-0990. All statements received, including attachments and other supporting materials, are part of the public record and subject to public disclosure. You should only submit information that you wish to make publicly available.

FOR FURTHER INFORMATION CONTACT: Dubis Correal, Director, Office of Financial Education, Department of the Treasury, 1500 Pennsylvania Avenue, NW., Washington, DC 20220, at (202) 622-5770 or ofe@treasury.gov.

SUPPLEMENTARY INFORMATION: On January 29, 2010, the President signed Executive Order 13530, creating the Council to assist the American people in understanding financial matters and making informed financial decisions, thereby contributing to financial stability. The Council is composed of two ex officio Federal officials and 11 non-governmental members appointed by the President with relevant backgrounds, such as financial services, consumer protection, financial access, and education. The role of the Council is to advise the President and the Secretary of the Treasury on means to promote and enhance individuals' and families' financial capability. The Council held its first meeting on November 30, 2010 and its second on April 21, 2011. During the April 2011 meeting, each Council subcommittee presented a progress report and the recommendations it thought the Council as a whole should make to the President and the Secretary. The Council agreed to make two recommendations: (1) That Treasury support the Workplace Leaders in Financial Educations Award, administered by the American Institute of Certified Public Accountants and the Society for Human Resources Management; and (2) that the Treasury issue a challenge to the private sector to create applications for mobile devices that promote financial capability and financial access. The Department of the Treasury is looking into how to implement those recommendations. Additionally, the Council discussed the composition of its subcommittees and their priorities, and decided that it would be more effective to embed the work of the “Strategy” subcommittee into the work of the other subcommittees.

In accordance with section 10(a) of the Federal Advisory Committee Act, 5 U.S.C. App. 2 and the regulations thereunder, Dubis Correal, Designated Federal Officer of the Council, has ordered publication of this notice that the Council will convene its third meeting on July 12, 2011, via audio webcast, beginning at 2:30 p.m. Eastern Time. The meeting will be open to the public. Details on how to access the audio webcast will be posted closer to the date of the meeting at http://www.treasury.gov (click on Resource Center, then Office of Financial Education and Financial Access, and then on the President's Advisory Council on Financial Capability) or call (202) 622-5770. The purpose of the meeting is to receive an update from the Council's subcommittees on their ideas, progress, and discuss any possible recommendations.

Dated: June 9, 2011.
Alastair Fitzpayne,
Executive Secretary, U.S. Department of the Treasury.

[FR Doc. 2011-14998 Filed 6-15-11; 8:45 am]

BILLING CODE 4810-25-P